DEPARTMENT OF ENERGY

Federal Energy Regulatory Commission

[Docket No. PR03-11-002]

Enbridge Pipelines (Louisiana Intrastate) L.L.C.; Notice of Shortened Comment Period

June 17, 2003.

Take notice that on June 16, 2003, Enbridge Pipelines (Louisiana Intrastate) L.L.C., (Louisiana Intrastate) filed an offer of settlement relative to Louisiana Intrastate's filings in Docket Nos. PR03-11-000 and PR03-11-001. The settlement is uncontested and no parties have intervened in these proceedings and the Commission staff supports the Settlement.

Louisiana Intrastate requests that the Commission establish a shortened comment period for comments on the settlement.

Take notice that initial comments are due on or before June 23, 2003, and reply comments are due on or before June 26, 2003.

Linda Mitry,
Acting Secretary.

[FR Doc. 03-15842 Filed 6-23-03; 8:45 am]

BILLING CODE 6717-01-P